FEDERAL COMMUNICATIONS COMMISSION

47 CFR Part 73

[DA 08-27; MB Docket No. 08-3; RM-11407]

Radio Broadcasting Services; Wheatland, WY

AGENCY: Federal Communications Commission.

ACTION: Proposed rule.

SUMMARY: Appaloosa Broadcasting Company, Inc. (“Petitioner”), the licensee of Station KIMX(FM), Channel 244C2, Laramie, Wyoming, has filed a contingent application to modify the facilities of Station KIMX(FM) from Channel 244C2 to Channel 245A and to change that station's community of license from Laramie, Wyoming, to Nunn, Colorado. This Notice of Proposed Rule Making requests comments on a petition for rule making filed by Petitioner proposing the substitution of Channel 286A for vacant Channel 247A at Wheatland, Wyoming. This channel substitution would accommodate Petitioner's contingent modification application. In addition, to accommodate that application, Petitioner requests that FM Channel 246C1 be involuntarily substituted for Channel 245C1 at Station KCMI(FM), Terrytown, Nebraska. See SUPPLEMENTARY INFORMATION.

DATES: Comments must be filed on or before February 28, 2008, and reply comments on or before March 14, 2008.

ADDRESSES: Secretary, Federal Communications Commission, 445 Twelfth Street, SW., Washington, DC 20554. In addition to filing comments with the FCC, interested parties should serve counsel for Petitioner as follows: Barry A. Friedman, Esq., Thompson Hine LLP, 1920 N Street, NW., Suite 800, Washington, DC 20036.

FOR FURTHER INFORMATION CONTACT: R. Barthen Gorman, Media Bureau, (202) 418-2180.

SUPPLEMENTARY INFORMATION: This is a summary of the Commission's Notice of Proposed Rule Making, MB Docket No. 08-3, adopted January 2, 2008, and released January 7, 2008. The full text of this Commission decision is available for inspection and copying during normal business hours in the Commission's Reference Information Center, 445 Twelfth Street, SW., Washington, DC 20554. This document may also be purchased from the Commission's duplicating contractors, Best Copy and Printing, Inc., 445 12th Street, SW., Room CY-B402, Washington, DC 20554, telephone 1-800-378-3160 or http://www.BCPIWEB.com.

Channel 247A at Wheatland was allotted in MB Docket No. 05-98. See 71 FR 4527, published January 27, 2006. This vacant FM channel was inadvertently removed from the FM Table of Allotments. See 71 FR 76208, published December 20, 2006. This rulemaking proceeding is now proposing to remove Channel 247A at Wheatland and add Channel 286A at Wheatland to accommodate the change of community application for Station KIMX from Laramie to Nunn, Colorado.

This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Wyoming, is amended by adding Wheatland, Channel 286A.

Federal Communications Commission.
John A. Karousos,
Assistant Chief, Audio Division, Media Bureau.

[FR Doc. E8-1331 Filed 1-24-08; 8:45 am]

BILLING CODE 6712-01-P